DEPARTMENT OF ENERGY

Federal Energy Regulatory Commission

[Docket No. RP04-317-000]

Questar Southern Trails Pipeline Company; Notice of Annual Fuel Gas Reimbursement Report

June 3, 2004.

Take notice that on May 28, 2004, Questar Southern Trails Pipeline Company (Southern Trails) tendered for filing its annual Fuel Gas Reimbursement Percentage (FGRP) report and proposed a 0.17% variance adjustment to be effective July 1, 2004.

Southern Trails stated that a copy of this filing has been served upon its customers and the Public Service Commissions of Utah, New Mexico, Arizona and California.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Comment Date: June 10, 2004.

Magalie R. Salas,
Secretary.

[FR Doc. E4-1299 Filed 6-9-04; 8:45 am]

BILLING CODE 6717-01-P